ENVIRONMENTAL PROTECTION AGENCY

40 CFR Part 55

[EPA-R04-OAR-2008-0681; FRL-8769-6]

Outer Continental Shelf Air Regulations Consistency Update for North Carolina

AGENCY: Environmental Protection Agency (EPA).

ACTION: Final rule—consistency update.

SUMMARY: EPA is finalizing the update of the Outer Continental Shelf (OCS) Air Regulations proposed in the Federal Register on November 5, 2008. Requirements applying to OCS sources located within 25 miles of states' seaward boundaries must be updated periodically to remain consistent with the requirements of the corresponding onshore area (COA), as mandated by the Clean Air Act (“CAA” or “the Act”). The portion of the OCS air regulations that is being updated pertains to the requirements for OCS sources for which the State of North Carolina has been designated COA. The effect of approving the OCS requirements for the State of North Carolina is to regulate emissions from OCS sources in accordance with the requirements onshore. The change to the existing requirements discussed below will be incorporated by reference into the Code of Federal Regulations (CFR) and is listed in the appendix to the OCS air regulations. This action is an annual update of the North Carolina's OCS Air Regulations. These rules include revisions to existing rules that already apply to OCS sources. No comments were received on the November 5, 2008, proposal.

DATES: Effective Date: This rule is effective on April 2, 2009. The incorporation by reference of certain publications listed in this rule is approved by the Director of the Federal Register as of April 2, 2009.

ADDRESSES: EPA has established docket number EPA-R04-OAR-2008-0681 for this action. All documents in the docket are listed on the http://www.regulations.gov Web site. Although listed in the index, some information is not publicly available, i.e., CBI or other information whose disclosure is restricted by statute. Certain other material, such as copyrighted material, is not placed on the Internet and will be publicly available only in hard copy form. Publicly available docket materials are available either electronically through http://www.regulations.gov or in hard copy at the Air Permits Section, Air Planning Branch, Air, Pesticides and Toxics Management Division, U.S. Environmental Protection Agency, Region 4, 61 Forsyth Street, SW., Atlanta, Georgia 30303-8960. EPA requests that if at all possible, you contact the contact listed in the FOR FURTHER INFORMATION CONTACT section to schedule your inspection. The Regional Office's official hours of business are Monday through Friday, 8:30 to 4:30, excluding Federal holidays.

FOR FURTHER INFORMATION CONTACT: Sean Lakeman, Air Permits Section, Air Planning Branch, Air, Pesticides and Toxics Management Division, U.S. Environmental Protection Agency, Region 4, 61 Forsyth Street, SW., Atlanta, Georgia 30303-8960. The telephone number is (404) 562-9043. Mr. Lakeman can also be reached via electronic mail at lakeman.sean@epa.gov.

SUPPLEMENTARY INFORMATION: Throughout this document whenever “we,” “us,” or “our” is used, we mean EPA. The following outline is provided to aid in locating information in this preamble.

I. Background and Purpose

II. EPA Action

III. Statutory and Executive Order Reviews

I. Background and Purpose

On November 5, 2008, EPA promulgated 40 CFR part 55, which established requirements to control air pollution from OCS sources in order to attain and maintain federal and state ambient air quality standards and to comply with the provisions of part C of title I of the Act. Part 55 applies to all OCS sources offshore of the states except those located in the Gulf of Mexico west of 87.5 degrees longitude. Section 328 of the Act requires that for such sources located within 25 miles of a state's seaward boundary, the requirements shall be the same as would be applicable if the sources were located in the COA. Because the OCS requirements are based on onshore requirements, and onshore requirements may change, section 328(a)(1) of the Act requires that EPA update the OCS requirements as necessary to maintain consistency with onshore requirements.

Section 328(a) of the Act requires that EPA establish requirements to control air pollution from OCS sources located within 25 miles of states' seaward boundaries that are the same as onshore requirements. To comply with this statutory mandate, EPA must incorporate applicable onshore rules into part 55 as they exist onshore. This process is distinct from the State Implementation Plan (SIP) process and incorporation of a rule into part 55 as part of the OCS consistency update process does not ensure such a rule would be appropriate for inclusion into the SIP. EPA proposed approval of North Carolina's rules for OCS consistency update on November 5, 2008 (73 FR 65804), and received no comments.

II. EPA Action

In this document, EPA takes final action to incorporate the proposed changes into 40 CFR part 55. No changes were made to the proposed action. EPA is approving the proposed action under section 328(a)(1) of the Act. Section 328(a) of the Act requires that EPA establish requirements to control air pollution from OCS sources located within 25 miles of states' seaward boundaries that are the same as onshore requirements. To comply with this statutory mandate, EPA must incorporate applicable onshore rules into part 55 as they exist onshore.

III. Statutory and Executive Order Reviews

Under the CAA, the Administrator is required to establish requirements to control air pollution from OCS sources located within 25 miles of States' seaward boundaries that are the same as onshore air control requirements. To comply with this statutory mandate, EPA must incorporate applicable onshore rules into part 55 as they exist onshore. 42 U.S.C. 7627(a)(1); 40 CFR 55.12. Thus, in promulgating OCS consistency updates, EPA's role is to maintain consistency between OCS regulations and the regulations of onshore areas, provided that they meet the criteria of the CAA. Accordingly, this action simply updates the existing OCS requirements to make them consistent with requirements onshore, without the exercise of any policy discretion by EPA. For that reason, this action:

(1) Is not a “significant regulatory action” subject to review by the Office of Management and Budget (OMB) under Executive Order 12866 (58 FR 51735, October 4, 1993);

(2) Is certified as not having a significant economic impact on a substantial number of small entities under the Regulatory Flexibility Act (5 U.S.C. 601 et seq.);

(3) Does not contain any unfunded mandate or significantly or uniquely affect small governments, as described in the Unfunded Mandates Reform Act of 1995 (Pub. L. 104-4);

(4) Does not have Federalism implications as specified in Executive Order 13132 (64 FR 43255, August 10, 1999);

(5) Is not an economically significant regulatory action based on health or safety risks subject to Executive Order 13045 (62 FR 19885, April 23, 1997);

(6) Is not a significant regulatory action subject to Executive Order 13211 (66 FR 28355, May 22, 2001);

(7) Is not subject to requirements of Section 12(d) of the National Technology Transfer and Advancement Act of 1995 (15 U.S.C. 272 note) because application of those requirements would be inconsistent with the CAA; and

(8) Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it does not have a substantial direct effect on one or more Indian tribes, on the relationship between the Federal Government and Indian tribes, or on the distribution of power and responsibilities between the Federal Government and Indian tribes, nor does it impose substantial direct compliance costs on tribal governments, nor preempt tribal law.

Under the provisions of the Paperwork Reduction Act, 44 U.S.C. 3501 et seq., OMB has approved the information collection requirements contained in 40 CFR part 55 and, by extension, this update to the rules, and has assigned OMB control number 2060-0249. Notice of OMB's approval of EPA Information Collection Request (“ICR”) No. 1601.06 was published in the Federal Register on March 1, 2006 (71 FR 10499-10500). The approval expires January 31, 2009. As EPA previously indicated (70 FR 65897-65898 (November 1, 2005)), the annual public reporting and recordkeeping burden for collection of information under 40 CFR part 55 is estimated to average 549 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in 40 CFR are listed in 40 CFR part 9 and are identified on the form and/or instrument, if applicable. In addition, the table in 40 CFR part 9 of currently approved OMB control numbers for various regulations lists the regulatory citations for the information requirements contained in 40 CFR part 55.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by May 4, 2009. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 55

Environmental protection, Administrative practice and procedure, Air pollution control, Continental Shelf, Incorporation by reference, Intergovernmental relations, Nitrogen dioxide, Ozone, Particulate matter, Reporting and recordkeeping requirements, Sulfur oxides.

Dated: January 20, 2009.
A. Stanley Meiburg,
Acting Regional Administrator, Region 4.

Accordingly, 40 CFR part 55 is amended as follows:

PART 55—[AMENDED]

1. The authority citation for part 55 continues to read as follows:

Authority: Section 328 of the Act (42 U.S.C. 7401, et seq.) as amended by Public Law 101-549.

2. Section 55.14 is amended by revising paragraph (e)(17)(i)(A) to read as follows:

§ 55.14 Requirements that apply to OCS sources located within 25 miles of States' seaward boundaries, by State.

* * * * *

(e) * * *

(17) * * *

(i) * * *

(A) State of North Carolina Air Pollution Control Requirements Applicable to OCS Sources, January 2, 2008.

* * * * *

3. Appendix A to part 55 is amended by revising paragraph (a)(1) under the heading “North Carolina” to read as follows:

Appendix A to Part 55—Listing of State and Local Requirements Incorporated by Reference Into Part 55, By State

* * * * *

North Carolina

(a) State requirements.

(1) The following requirements are contained in State of North Carolina Air Pollution Control Requirements Applicable to OCS Sources, January 2, 2008: The following sections of subchapter 2D, 2H and 2Q.

15A NCAC SUBCHAPTER 2D—AIR POLLUTION CONTROL REQUIREMENTS

SECTION .0100—DEFINITIONS AND REFERENCES

2D.0101 Definitions (Effective 12/01/2005)

2D.0104 Incorporation by reference (Effective 07/01/1998)

SECTION .0200—AIR POLLUTION SOURCES

2D.0201 Classification of air pollution sources (Effective 07/01/1984)

2D.0202 Registration of air pollution sources (Effective 07/01/1998)

SECTION .0300—AIR POLLUTION EMERGENCIES

2D.0301 Purpose (Effective 02/01/1976)

2D.0302 Episode criteria (Effective 07/01/1998)

2D.0303 Emission reduction plans (Effective 07/01/1984)

2D.0304 Preplanned abatement program (Effective 07/01/1998)

2D.0305 Emission reduction plan: Alert Level (Effective 07/01/1984)

2D.0306 Emission reduction plan: Warning Level (Effective 07/01/1984)

2D.0307 Emission reduction plan: Emergency Level (Effective 07/01/1984)

SECTION .0400—AMBIENT AIR QUALITY STANDARDS

2D.0401 Purpose (Effective 12/01/1992)

2D.0402 Sulfur oxides (Effective 07/01/1984)

2D.0403 Total suspended particulates (Effective 07/01/1988)

2D.0404 Carbon monoxide (Effective 10/01/1989)

2D.0405 Ozone (Effective 04/01/1999)

2D.0407 Nitrogen dioxide (Effective 10/01/1989)

2D.0408 Lead (Effective 07/01/1984)

2D.0409 PM10 particulate matter (Effective 04/01/1999)

2D.0410 PM2.5 particulate matter (Effective 04/01/1999)

SECTION .0500—EMISSION CONTROL STANDARDS

2D.0501 Compliance with emission control standards (Effective 06/01/2008)

2D.0502 Purpose (Effective 06/01/1981)

2D.0503 Particulates from fuel burning indirect heat exchangers (Effective 04/01/1999)

2D.0504 Particulates from wood burning indirect heat exchangers (Effective 08/01/2002)

2D.0506 Particulates from hot mix asphalt plants (Effective 08/01/2004)

2D.0507 Particulates from chemical fertilizer manufacturing plants (Effective 04/01/2003)

2D.0508 Particulates from pulp and paper mills (Effective 07/10/1998)

2D.0509 Particulates from MICA or FELDSPAR processing plants (Effective 04/01/2003)

2D.0510 Particulates from sand, gravel, or crushed stone operations (Effective 07/01/1998)

2D.0511 Particulates from lightweight aggregate processes (Effective 07/01/1998)

2D.0512 Particulates from wood products finishing plants (Effective 01/01/1985)

2D.0513 Particulates from portland cement plants (Effective 07/01/1998)

2D.0514 Particulates from ferrous jobbing foundries (Effective 07/01/1998)

2D.0515 Particulates from miscellaneous industrial processes (Effective 04/01/2003)

2D.0516 Sulfur dioxide emissions from combustion sources (Effective 07/01/2007)

2D.0517 Emissions from plants producing sulfuric acid (Effective 01/01/1985)

2D.0519 Control of nitrogen dioxide and nitrogen oxides emissions (Effective 07/01/2007)

2D.0521 Control of visible emissions (Effective 07/01/2007)

2D.0524 New Source Performance Standards (Effective 07/01/2007)

2D.0527 Emissions from spodumene ore roasting (Effective 01/01/1985)

2D.0528 Total reduced sulfur from kraft pulp mills (Effective 07/01/1988)

2D.0529 Fluoride emissions from primary aluminum reduction plants (Effective 06/01/2008)

2D.0530 Prevention of significant deterioration (Effective 05/01/2008)

2D.0531 Sources in nonattainment areas (Effective 05/01/2008)

2D.0532 Sources contributing to an ambient violation (Effective (07/01/1994)

2D.0533 Stack height (Effective 07/01/1994)

2D.0534 Fluoride emissions from phosphate fertilizer industry (Effective 11/01/1982)

2D.0535 Excess emissions reporting and malfunctions (Effective 06/01/2008)

2D.0536 Particulate emissions from electric utility boilers (Effective 06/10/2008)

2D.0537 Control of mercury emissions (Effective 07/01/1996)

2D.0538 Control of ethylene oxide emissions (Effective 06/01/2004)

2D.0539 Odor control of feed ingredient manufacturing plants (Effective 04/01/2001)

2D.0540 Particulates from fugitive dust emission sources (Effective 08/01/2007)

2D.0541 Control of emissions from abrasive blasting (Effective 07/01/2000)

2D.0542 Control of particulate emissions from cotton ginning operations (Effective 06/01/2008)

2D.0543 Best Available Retrofit Technology (Effective 05/01/2007)

SECTION .0600—MONITORING: RECORDKEEPING: REPORTING

2D.0601 Purpose and scope (Effective 04/01/1999)

2D.0602 Definitions (Effective 04/01/1999)

2D.0604 Exceptions to monitoring and reporting requirements (Effective 04/01/1999)

2D.0605 General recordkeeping and reporting requirements (Effective 01/01/2007)

2D.0606 Sources covered by appendix P of 40 CFR part 51 (Effective 06/01/2008)

2D.0607 Large wood and wood-fossil fuel combination units (Effective 07/01/1999)

2D.0608 Other large coal or residual oil burners (Effective 06/01/2008)

2D.0610 Federal monitoring requirements (Effective 04/01/1999)

2D.0611 Monitoring emissions from other sources (Effective 04/01/1999)

2D.0612 Alternative monitoring and reporting procedures (Effective 04/01/1999)

2D.0613 Quality assurance program (Effective 04/01/1999)

2D.0614 Compliance assurance monitoring (Effective 04/01/1999)

2D.0615 Delegation (Effective 04/01/1999)

SECTION .0900—VOLATILE ORGANIC COMPOUNDS

2D.0901 Definitions (Effective 06/01/2008)

2D.0902 Applicability (Effective 07/01/2007)

2D.0903 Recordkeeping: reporting: monitoring (Effective 04/01/1999)

2D.0906 Circumvention (Effective 01/01/1985)

2D.0909 Compliance schedules for sources in nonattainment areas (Effective 07/01/2007)

2D.0912 General provisions on test methods and procedures (Effective 06/01/2008)

2D.0917 Automobile and light-duty truck manufacturing (Effective 07/01/1996)

2D.0918 Can coating (Effective 07/01/1996)

2D.0919 Coil coating (Effective 07/01/1996)

2D.0920 Paper coating (Effective 07/01/1996)

2D.0921 Fabric and vinyl coating (Effective 07/01/1996)

2D.0922 Metal furniture coating (Effective 07/01/1996)

2D.0923 Surface coating of large appliances (Effective 07/01/1996)

2D.0924 Magnet wire coating (Effective 07/01/1996)

2D.0925 Petroleum liquid storage in fixed roof tanks (03/01/1991)

2D.0926 Bulk gasoline plants (Effective 07/01/1996)

2D.0927 Bulk gasoline terminals (Effective 01/01/2007)

2D.0928 Gasoline service stations stage I (Effective 07/01/1996)

2D.0930 Solvent metal cleaning (Effective 03/01/1991)

2D.0931 Cutback asphalt (Effective 12/01/1989)

2D.0932 Gasoline truck tanks and vapor collection systems (Effective 08/01/2008)

2D.0933 Petroleum liquid storage in external floating roof tanks (Effective 06/01/2004)

2D.0934 Coating of miscellaneous metal parts and products (Effective 07/01/1996)

2D.0935 Factory surface coating of flat wood paneling (Effective 07/01/1996)

2D.0936 Graphic arts (Effective 12/01/1993)

2D.0937 Manufacture of pneumatic rubber tires (Effective 07/01/1996)

2D.0943 Synthetic organic chemical and polymer manufacturing (Effective 06/01/2008)

2D.0944 Manufacture of polyethylene: polypropylene and polystyrene (Effective 05/01/1985)

2D.0945 Petroleum dry cleaning (Effective 06/01/2008)

2D.0947 Manufacture of synthesized pharmaceutical products (Effective 07/01/1994)

2D.0948 VOC emissions from transfer operations (Effective 07/01/2000)

2D.0949 Storage of miscellaneous volatile organic compounds (Effective 07/01/2000)

2D.0951 Miscellaneous volatile organic compound emissions (Effective 07/01/2000)

2D.0952 Petition for alternative controls for RACT (Effective 04/01/2003)

2D.0953 Vapor return piping for stage II vapor recovery (Effective 07/01/1998)

2D.0954 Stage II vapor recovery (Effective 04/01/2003)

2D.0955 Thread bonding manufacturing (Effective 05/01/1995)

2D.0956 Glass Christmas ornament manufacturing (Effective 05/01/1995)

2D.0957 Commercial bakeries (Effective 05/01/1995)

2D.0958 Work practices for sources of volatile organic compounds (Effective 07/01/2000)

2D.0959 Petition for superior alternative controls (Effective 04/01/2003)

2D.0960 Certification of leak tightness tester (Effective 07/01/2007)

SECTION .1100—CONTROL OF TOXIC AIR POLLUTANTS

2D.1101 Purpose (Effective 05/01/1990)

2D.1102 Applicability (Effective 07/01/1998)

2D.1103 Definition (Effective 04/01/2001)

2D.1104 Toxic air pollutant guidelines (Effective 06/01/2008)

2D.1105 Facility reporting, recordkeeping (Effective 04/01/1999)

2D.1106 Determination of ambient air concentration (Effective 07/01/1998)

2D.1107 Multiple facilities (Effective 07/01/1998)

2D.1108 Multiple pollutants (Effective 05/01/1990)

2D.1109 112(j) case-by-case maximum achievable control technology (Effective 02/01/2004)

2D.1110 National Emission Standards for Hazardous Air Pollutants (Effective 06/01/2008)

2D.1111 Maximum Achievable Control Technology (Effective 01/01/2007)

2D.1112 112(g) case by case maximum achievable control technology (Effective 07/01/1998)

SECTION .1200—CONTROL OF EMISSIONS FROM INCINERATORS

2D.1201 Purpose and scope (Effective 07/01/2007)

2D.1202 Definitions (Effective 07/01/2007)

2D.1203 Hazardous waste incinerators (Effective 06/01/2008)

2D.1204 Sewage sludge and sludge incinerators (Effective 06/01/2008)

2D.1205 Municipal waste combustors (Effective 04/01/2004)

2D.1206 Hospital, medical, and infectious waste incinerators (Effective 06/01/2008)

2D.1207 Conical incinerators (Effective 07/01/2000)

2D.1208 Other incinerators (Effective 08/01/2008)

2D.1210 Commercial and industrial solid waste incineration units (Effective 06/01/2008)

2D.1211 Other solid waste incineration units (Effective 07/01/2007)

SECTION .1300—OXYGENATED GASOLINE STANDARD

2D.1301 Purpose (Effective 09/01/1996)

2D.1302 Applicability (Effective 09/01/1996)

2D.1303 Definitions (Effective 09/01/1992)

2D.1304 Oxygen content standard (Effective 09/01/1996)

2D.1305 Measurement and enforcement (Effective 07/01/1998)

SECTION .1400—NITROGEN OXIDES

2D.1401 Definitions (Effective 07/18/2002)

2D.1402 Applicability (Effective 06/01/2008)

2D.1403 Compliance schedules (Effective 07/01/2007)

2D.1404 Recordkeeping: Reporting: Monitoring: (Effective 12/01/2005)

2D.1405 Circumvention (Effective 04/01/1995)

2D.1407 Boilers and indirect-fired process heaters (Effective 06/01/2008)

2D.1408 Stationary combustion turbines (Effective 06/01/2008)

2D.1409 Stationary internal combustion engines (Effective 06/01/2008)

2D.1410 Emissions averaging (Effective 07/18/2002)

2D.1411 Seasonal fuel switching (Effective 06/01/2008)

2D.1412 Petition for alternative limitations (Effective 06/01/2008)

2D.1413 Sources not otherwise listed in this section (Effective 07/18/2002)

2D.1414 Tune-up requirements (Effective 07/18/2002)

2D.1415 Test methods and procedures (Effective 07/18/2002)

2D.1416 Emission allocations for utility companies (Effective 06/01/2004)

2D.1417 Emission allocations for large combustion sources (Effective 06/01/2004)

2D.1418 New electric generating units, large boilers, and large I/C engines (Effective 06/01/2004)

2D.1419 Nitrogen oxide budget trading program (Effective 06/01/2004)

2D.1420 Periodic review and reallocations (Effective 07/18/2002)

2D.1421 Allocations for new growth of major point sources (Effective 07/18/2002)

2D.1422 Compliance supplement pool credits (Effective 06/01/2004)

2D.1423 Large internal combustion engines (Effective 07/18/2002)

SECTION .1600—GENERAL CONFORMITY

2D.1601 Purpose, scope and applicability (Effective 04/01/1999)

2D.1602 Definitions (Effective 04/01/1995)

2D.1603 General conformity determination (Effective 07/01/1998)

SECTION .1900—OPEN BURNING

2D.1901 Open burning: Purpose: Scope (Effective 07/01/2007)

2D.1902 Definitions (Effective 07/01/2007)

2D.1903 Open burning without an air quality permit (Effective 07/01/2007)

2D.1904 Air curtain burners (Effective 07/01/2007)

2D.1905 Regional office locations (Effective 12/01/2005)

2D.1906 Delegation to county governments (Effective 12/01/2005)

2D.1907 Multiple violations arising from a single episode (Effective 07/01/2007)

SECTION .2000—TRANSPORTATION CONFORMITY

2D.2001 Purpose, scope and applicability (Effective 12/01/2005)

2D.2002 Definitions (Effective 04/01/1999)

2D.2003 Transportation conformity determination (Effective 04/01/1999)

2D.2004 Determining transportation-related emissions (Effective 04/01/1999)

2D.2005 Memorandum of agreement (Effective 04/01/1999)

SECTION .2100—RISK MANAGEMENT PROGRAM

2D.2101 Applicability (Effective 07/01/2000)

2D.2102 Definitions (Effective 07/01/2000)

2D.2103 Requirements (Effective 07/01/2000)

2D.2104 Implementation (Effective 07/01/2000)

SECTION .2200—SPECIAL ORDERS

2D.2201 Purpose (Effective 04/01/2004)

2D.2202 Definitions (Effective 04/01/2004)

2D.2203 Public notice (Effective 04/01/2004)

2D.2204 Final action on consent orders (Effective 04/01/2004)

2D.2205 Notification of right to contest special orders issued without (Effective 04/01/2004)

SECTION .2300—BANKING EMISSION REDUCTION CREDITS

2D.2301 Purpose (Effective 12/01/2005)

2D.2302 Definitions (Effective 12/01/2005)

2D.2303 Applicability and eligibility (Effective 07/01/2007)

2D.2304 Qualification of emission reduction credits (Effective 12/01/2005)

2D.2305 Creating and banking emission reduction credits (Effective 12/01/2005)

2D.2306 Duration of emission reduction credits (Effective 12/01/2005)

2D.2307 Use of emission reduction credits (Effective 12/01/2005)

2D.2308 Certificates and registry (Effective 12/01/2005)

2D.2309 Transferring emission reduction credits (Effective 12/01/2005)

2D.2310 Revocation and changes of emission reduction credits (Effective 12/01/2005)

2D.2311 Monitoring (Effective 12/01/2005)

SECTION .2400—CLEAN AIR INTERSTATE RULES

2D.2401 Purpose and applicability (Effective 05/01/2008)

2D.2402 Definitions (Effective 05/01/2008)

2D.2403 Nitrogen oxide emissions (Effective 05/01/2008)

2D.2404 Sulfur dioxide (Effective 05/01/2008)

2D.2405 Nitrogen oxide emissions during ozone season (Effective 05/01/2008)

2D.2406 Permitting (Effective 07/01/2006)

2D.2407 Monitoring, reporting, and recordkeeping (Effective 05/01/2008)

2D.2408 Trading program and banking (Effective 07/01/2006)

2D.2409 Designated representative (Effective 05/01/2008)

2D.2410 Computation of time (Effective 07/01/2006)

2D.2411 Opt-in provisions (Effective 07/01/2006)

2D.2412 New unit growth (Effective 05/01/2008)

2D.2413 Periodic review and reallocations (Effective 07/01/2006)

SECTION .2500—MERCURY RULES FOR ELECTRIC GENERATORS

2D.2501 Purpose and applicability (Effective 01/01/2007)

2D.2502 Definitions (Effective 01/01/2007)

2D.2503 Mercury emission (Effective 01/01/2007)

2D.2504 Permitting (Effective 01/01/2007)

2D.2505 Monitoring, Reporting, and Recordkeeping (Effective 01/01/2007)

2D.2506 Designated representative (Effective 01/01/2007)

2D.2507 Computation of time time periods shall be determined as described in 40 CFR 60.4107 (Effective 01/01/2007)

2D.2508 New source growth (Effective 01/01/2007)

2D.2509 Periodic review and reallocations (Effective 01/01/2007)

2D.2510 Trading program and banking (Effective 01/01/2007)

2D.2511 Mercury emission limits (Effective 01/01/2007)

SECTION .2600—SOURCE TESTING

2D.2601 Purpose and scope (Effective 06/01/2008)

2D.2602 General provisions on test methods and procedures (Effective 07/01/2008)

2D.2603 Testing protocol (Effective 07/01/2008)

2D.2604 Number of test points (Effective 06/01/2008)

2D.2605 Velocity and volume flow rate (Effective 06/01/2008)

2D.2606 Molecular weight (Effective 06/01/2008)

2D.2607 Determination of moisture content (Effective 06/01/2008)

2D.2608 Number of runs and compliance determination (Effective 06/01/2008)

2D.2609 Particulate testing methods (Effective 06/01/2008)

2D.2610 Opacity (Effective 06/01/2008)

2D.2611 Sulfur dioxide testing methods (Effective 06/01/2008)

2D.2612 Nitrogen oxide testing methods (Effective 06/01/2008)

2D.2613 Volatile organic compound testing methods (Effective 06/01/2008)

2D.2614 Determination of voc emission control system efficiency (Effective 06/01/2008)

2D.2615 Determination of leak tightness and vapor leaks (Effective 06/01/2008)

2D.2616 Fluorides (Effective 06/01/2008)

2D.2617 Total reduced sulfur (Effective 06/01/2008)

2D.2618 Mercury (Effective 06/01/2008)

2D.2619 Arsenic, beryllium, cadmium, hexavalent chromium (Effective 06/01/2008)

2D.2620 Dioxins and furans (Effective 06/01/2008)

2D.2621 Determination of fuel heat content using f-factor (Effective 06/01/2008)

SUBCHAPTER 02Q—AIR QUALITY PERMITS PROCEDURES

SECTION .0100—GENERAL PROVISIONS

2Q.0101 Required air quality permits (Effective 12/01/2005)

2Q.0102 Activities exempted from permit requirements (Effective 07/01/2007)

2Q.0103 Definitions (Effective 12/01/2005)

2Q.0104 Where to obtain and file permit applications (Effective 08/01/2002)

2Q.0105 Copies of referenced documents (Effective 12/01/2005)

2Q.0106 Incorporation by reference (Effective 07/01/1994)

2Q.0107 Confidential information (Effective 04/01/1999)

2Q.0108 Delegation of authority (Effective 07/01/1998)

2Q.0109 Compliance schedule for previously exempted activities (Effective 04/01/2001)

2Q.0110 Retention of permit at permitted facility (Effective 07/01/1994)

2Q.0111 Applicability determinations (Effective 07/01/1994)

2Q.0112 Applications requiring professional engineer seal (Effective 02/01/1995)

2Q.0113 Notification in areas without zoning (Effective 04/01/2004)

SECTION .0200—PERMIT FEES

2Q.0201 Applicability (Effective 07/01/1998)

2Q.0202 Definitions (Effective 04/01/2004)

2Q.0203 Permit and application fees (Effective 03/01/2008)

2Q.0204 Inflation adjustment (Effective 03/01/2008)

2Q.0205 Other adjustments (Effective 07/01/1994)

2Q.0206 Payment of fees (Effective 07/01/1994)

2Q.0207 Annual emissions reporting (Effective 07/01/2007)

SECTION .0300—CONSTRUCTION AND OPERATION PERMITS

2Q.0301 Applicability (Effective 12/01/2005)

2Q.0302 Facilities not likely to contravene demonstration (Effective 07/01/1998)

2Q.0303 Definitions (Effective 07/01/1994)

2Q.0304 Applications (Effective 12/01/2005)

2Q.0305 Application submittal content (Effective 12/01/2005)

2Q.0306 Permits requiring public participation (Effective 07/01/2007)

2Q.0307 Public participation procedures (Effective 07/01/1998)

2Q.0308 Final action on permit applications (Effective 07/01/1994)

2Q.0309 Termination, modification and revocation of permits (Effective 07/01/1999)

2Q.0310 Permitting of numerous similar facilities (Effective 07/01/1994)

2Q.0311 Permitting of facilities at multiple temporary sites (Effective 07/01/1996)

2Q.0312 Application processing schedule (Effective 07/01/1998)

2Q.0313 Expedited application processing schedule (Effective 07/01/1998)

2Q.0314 General permit requirements (Effective 07/01/1999)

2Q.0315 Synthetic minor facilities (Effective 07/01/1999)

2Q.0316 Administrative permit amendments (Effective 04/01/2001)

2Q.0317 Avoidance conditions (Effective 04/01/2001)

2Q.0401 Purpose and applicability (Effective 04/01/2001)

2Q.0402 Acid rain permitting procedures (Effective 04/01/1999)

SECTION .0500—TITLE V PROCEDURES

2Q.0501 Purpose of section and requirement for a permit (Effective 07/01/1998)

2Q.0502 Applicability (Effective 07/01/2000)

2Q.0503 Definitions (Effective 01/01/2007)

2Q.0504 Option for obtaining construction and operation permit (Effective 07/01/1994)

2Q.0505 Application submittal content (Effective 04/01/2004)

2Q.0507 Application (Effective 04/01/2004)

2Q.0508 Permit content (Effective 08/01/2008)

2Q.0509 Permitting of numerous similar facilities (Effective 07/01/1994)

2Q.0510 Permitting of facilities at multiple temporary sites (Effective 07/01/1994)

2Q.0512 Permit shield and application shield (Effective 07/01/1997)

2Q.0513 Permit renewal and expiration (Effective 07/01/1994)

2Q.0514 Administrative permit amendments (Effective 01/01/2007)

2Q.0515 Minor permit modifications (Effective 07/01/1997)

2Q.0516 Significant permit modification (Effective 07/01/1994)

2Q.0517 Reopening for cause (Effective 07/01/1997)

2Q.0518 Final action (Effective 02/01/1995)

2Q.0519 Termination, modification, revocation of permits (Effective 07/01/1994)

2Q.0520 Certification by responsible official (Effective 07/01/1994)

2Q.0521 Public participation (Effective 07/01/1998)

2Q.0522 Review by EPA and affected states (Effective 07/01/1994)

2Q.0523 Changes not requiring permit revisions (Effective 06/01/2008)

2Q.0524 Ownership change (Effective 07/01/1994)

2Q.0525 Application processing schedule (Effective 07/01/1998)

2Q.0526 112(j) case-by-case MACT procedures (Effective 02/01/2004)

2Q.0527 Expedited application processing schedule (Effective 07/01/1998)

2Q.0528 112(g) case-by-case MACTt procedures (Effective 07/01/1998)

SECTION .0600—TRANSPORTATION FACILITY PROCEDURES

2Q.0601 Purpose of section and requirement for a permit (Effective 07/01/1994)

2Q.0602 Definitions (Effective 07/01/1994)

2Q.0603 Applications (Effective 02/01/2005)

2Q.0604 Public participation (Effective 07/01/1994)

2Q.0605 Final action on permit applications (Effective 02/01/2005)

2Q.0606 Termination, modification and revocation of permits (Effective 07/01/1994)

2Q.0607 Application processing schedule (Effective 07/01/1998)

SECTION .0700—TOXIC AIR POLLUTANT PROCEDURES

2Q.0701 Applicability (Effective 02/01/2005)

2Q.0702 Exemptions (Effective 04/01/2005)

2Q.0703 Definitions (Effective 04/01/2001)

2Q.0704 New facilities (Effective 07/01/1998)

2Q.0705 Existing facilities and sic calls (Effective 07/01/1998)

2Q.0706 Modifications (Effective 12/01/2005)

2Q.0707 Previously permitted facilities (Effective 07/01/1998)

2Q.0708 Compliance schedule for previously unknown toxic air pollutant emissions (Effective 07/01/1998)

2Q.0709 Demonstrations (Effective 02/01/2005)

2Q.0710 Public notice and opportunity for public hearing (Effective 07/01/1998)

2Q.0711 Emission rates requiring a permit (Effective 06/01/2008)

2Q.0712 Calls by the director (Effective 07/01/1998)

2Q.0713 Pollutants with otherwise applicable federal standards or requirements (Effective 07/01/1998)

SECTION .0800—EXCLUSIONARY RULES

2Q.0801 Purpose and scope (Effective 04/01/1999)

2Q.0802 Gasoline service stations and dispensing facilities (Effective 08/01/1995)

2Q.0803 Coating, solvent cleaning, graphic arts operations (Effective 04/01/2001)

2Q.0804 Dry cleaning facilities (Effective 08/01/1995)

2Q.0805 Grain elevators (Effective 04/01/2001)

2Q.0806 Cotton gins (Effective 06/01/2004)

2Q.0807 Emergency generators (Effective 04/01/2001)

2Q.0808 Peak shaving generators (Effective 12/01/2005)

2Q.0809 Concrete batch plants (Effective 06/01/2004)

2Q.0810 Air curtain burners (Effective 12/01/2005)

SECTION .0900—PERMIT EXEMPTIONS

2Q.0901 Purpose and scope (Effective 01/01/2005)

2Q.0902 Portable crushers (Effective 01/01/2005)

2Q.0903 Emergency generators (Effective 06/01/2008)

* * * * *

[FR Doc. E9-4131 Filed 3-2-09; 8:45 am]

BILLING CODE 6560-50-P